DEPARTMENT OF THE INTERIOR

National Park Service

[NPS-NRSS-EQD-SSB-19096; PPWONRADI1, PPMRSNR1Y.AM0000 (155)]

Information Collection Request Sent to the Office of Management and Budget (OMB) for Approval; Use of iNaturalist by the National Park Service To Record Natural History Observations

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB Control Number.

DATES: You must submit comments on or before September 21, 2015.

ADDRESSES: Send your comments and suggestions on this information collection to the Desk Officer for the Department of the Interior at OMB-OIRA at (202) 395-5806 (fax) or OIRA_Submission@omb.eop.gov (email) and identify your submission as 1024-iNAT. Please send a copy of your comments to Phadrea Ponds, Information Collection Coordinator, National Park Service, 1201 Oakridge Drive, Fort Collins, CO 80525 (mail); or phadrea_ponds@nps.gov (email). Please reference Information Collection 1024-iNAT in the subject line.

FOR FURTHER INFORMATION CONTACT: Simon Kingston, National Park Service, Inventory and Monitoring Division, 1201 Oakridge Dr., Suite 100, Fort Collins, CO 80525; simon_kingston@nps.gov; or 970-225-3551. You may review the ICR online at http://www.reginfo.gov. Follow the instructions to review Department of the Interior collections under review by OMB.

SUPPLEMENTARY INFORMATION:

I. Abstract

The National Park Service (NPS) is requesting approval for a new collection of information in which scientists and members of the public will use iNaturalist to record natural history observations during NPS Bioblitz and other citizen science sponsored events. The NPS is requesting to use iNaturalist—a web-based tool program that will allow park visitors to record the natural history of wildlife, plant and other species observed inside NPS Park units and managed lands. These recorded observations will be used to supply NPSpecies biodiversity database with additional information not currently known about species in the parks. The participation of citizen scientists via iNaturalist provides immediate on-site input that is often not available with the current level of NPS staffing.

II. Data

OMB Control Number: 1024-New.

Title: Use of iNaturalist by the National Park Service To Record Natural History Observations.

Type of Request: New Collection.

Description of Respondents: General public and non-federal scientists.

Respondent's Obligation: Voluntary.

Frequency of Collection: One-time, on-occasion.

Estimated Annual Number of Responses: 61,250.

Estimated Completion Time per Response: 5 minutes.

Estimated Total Annual Burden Hours: 5,104.

Estimated Annual Non-hour Burden Cost: None.

III. Comments

A Notice was published in the Federal Register (Vol. 80, No. 68, p. 19092) on April 9, 2015 stating that we intended to request OMB approval of our information collection associated with the iNaturalist project. In this notice, we solicited public comment for 60 days ending June 8, 2015. We did not receive any comments as a result of the Federal Register Notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask us or OMB in your comment to withhold your personal identifying information from public review, we cannot guarantee that it will be done.

Dated: August 17, 2015.
Madonna L. Baucum,
Information Collection Clearance Officer, National Park Service.

[FR Doc. 2015-20677 Filed 8-20-15; 8:45 am]

BILLING CODE 4310-EH-P